ENVIRONMENTAL PROTECTION AGENCY

[Docket ID Numbers OECA-2005-0064 to 0069, 0070 to 0072, 0075 to 0080, and 0106, FRL-7972-4]

Agency Information Collection Activities: Request for Comments on Sixteen Proposed Information Collection Requests (ICRs)

AGENCY: Environmental Protection Agency (EPA).

ACTION: Notice.

SUMMARY: In compliance with the Paperwork Reduction Act (44 U.S.C. 3501 et seq.), this document announces that EPA is planning to submit the following sixteen existing, approved, continuing Information Collection Requests (ICR) to the Office of Management and Budget (OMB) for the purpose of renewing the ICRs. Before submitting the ICRs to OMB for review and approval, EPA is soliciting comments on specific aspects of the information collections as described under SUPPLEMENTARY INFORMATION.

DATES: Comments must be submitted on or before November 21, 2005.

ADDRESSES: Comments may be submitted electronically, by mail, or through hand delivery/courier service. Follow the detailed instructions as provided under SUPPLEMENTARY INFORMATION, section I.B.

FOR FURTHER INFORMATION CONTACT: The contact individuals for each ICR are listed under SUPPLEMENTARY INFORMATION, section II.C.

SUPPLEMENTARY INFORMATION:

I. General Information

A. Background

Pursuant to section 3506(c)(2)(A) of the PRA, EPA is soliciting comments and information to enable it to:

(1) Evaluate whether the proposed collections of information are necessary for the proper performance of the functions of the Agency, including whether the information will have practical utility.

(2) Evaluate the accuracy of the Agency's estimates of the burdens of the proposed collections of information.

(3) Enhance the quality, utility, and clarity of the information to be collected.

(4) Minimize the burden of the collections of information on those who are to respond, including through the use of appropriate automated or electronic collection technologies or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's standards are displayed at 40 CFR part 9.

B. Public Dockets

EPA has established official public dockets for the ICRs listed under SUPPLEMENTARY INFORMATION, section II.B. The official public docket for each ICR consists of the documents specifically referenced in the ICR, any public comments received, and other information related to each ICR. The official public docket for each ICR is the collection of materials that is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center Docket is (202) 566-1514. An electronic version of the public docket for each ICR is available through EPA Dockets (EDOCKET) at: http://www.epa.gov/edocket. Use EDOCKET to obtain a copy of the draft collection of information, to submit or to view public comments, to access the index listing of the contents of the public docket, and to access those documents in the public docket that are available electronically. When in the system, select “search,” then key in the docket ID number identified above.

Any comments related to the listed ICRs above should be submitted to EPA within 60 days of this notice. EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov./edocket.

II. ICRs To Be Renewed

A. For All ICRs

The listed ICRs address Clean Air Act information collection requirements in standards (i.e., regulations) which have mandatory recordkeeping and reporting requirements. Records collected under the New Source Performance Standards (NSPS) must be retained by the owner or operator for at least two years and the records collected under the National Emission Standards for Hazardous Air Pollutants (NESHAP) must be retained by the owner or operator for at least five years. In general, the required collections consist of emissions data and other information deemed not to be private.

In the absence of such information collection requirements, enforcement personnel would be unable to determine whether the standards are being met on a continuous basis, as required by the Clean Air Act.

The Agency computed the burden for each of the recordkeeping and reporting requirements applicable to the industry for the currently approved Information Collection Requests (ICRs) listed in this notice. Where applicable, the Agency identified specific tasks and made assumptions, while being consistent with the concept of the Paperwork Reduction Act.

B. List of ICRs Planned To Be Submitted

In compliance with the Paperwork Reduction Act (44 U.S.C. 3501 et seq.), this notice announces that EPA is planning to submit the following sixteen continuing Information Collection Requests (ICR) to the Office of Management and Budget (OMB):

(1) NSPS for Petroleum Dry Cleaners ((40 CFR Part 60, Subpart JJJ); Docket ID Number OECA-2005-0066; EPA ICR Number 0997.08; OMB Control Number 2060-0079; expiration date June 30, 2006.

(2) NSPS for Large Appliance Surface Coating (40 CFR Part 60, Subpart SS); Docket ID Number OECA-2005-0075; EPA ICR Number 0659.10; OMB Control Number 2060-0108; expiration date June 30, 2006.

(3) NSPS for Coal Preparation Plants (40 CFR Part 60, Subpart Y); Docket ID Number OECA-2005-0065; EPA ICR Number 1062.09; OMB Control Number 2060-0122; June 30, 2006.

(4) NESHAP for Clay Ceramics Manufacturing (40 CFR Part 63, Subpart KKKKK); Docket ID Number OECA-2005-0067; EPA ICR Number 2023.03; OMB Control Number 2060-0513; expiration date June 30, 2006.

(5) NSPS for Emission Guidelines and Compliance Times for Small Municipal Waste Combustion Units Constructed on or Before August 30, 1999 (40 CFR Part 60, Subpart BBBB); Docket ID Number OECA-2005-0077; EPA ICR Number 1901.03; OMB Control Number 2060-0424; expiration date June 30, 2006.

(6) NSPS for Metal Furniture Coating (40 CFR Part 60, Subpart EE); Docket ID Number OECA-2005-0074; EPA ICR Number 0649.09; OMB Control Number 2060-0106; expiration date June 30, 2006.

(7) NSPS for Small Municipal Waste Combustors (40 CFR Part 60, Subpart AAAA); Docket ID Number OECA-2005-0078; EPA ICR Number 1900.03; OMB Control Number 2060-0423; expiration date June 30, 2006.

(8) NESHAP for Integrated Iron and Steel Manufacturing (40 CFR Part 63, Subpart FFFFF); Docket ID Number OECA-2005-0080; EPA ICR Number 2003.03; OMB Control Number 2060-0517; expiration date June 30, 2006.

(9) Federal Emission Guidelines for Large Municipal Waste Combustors Constructed on or Before September 20, 1994 (40 CFR 62, Subpart FFF); Docket ID Number OECA-2005-0079; EPA ICR Number 1847.04; OMB Control Number 2060-0181; expiration date June 30, 2006.

(10) NSPS for Synthetic Fiber Production Facilities (40 CFR Part 60, Subpart HHH); Docket ID Number OECA-2005-0068; EPA ICR Number 1156.10; OMB Control Number 2060-0059; expiration date June 30, 2006.

(11) NESHAP for Semiconductor Manufacturing (40 CFR Part 63, Subpart BBBBB); Docket ID Number OECA-2005-0069; EPA ICR Number 2042.03; OMB Control Number 2060-0519; expiration date June 30, 2006.

(12) NSPS for Electric Utility Steam Generating Units for Which Construction is Commenced After September 18, 1978 (40 CFR Part 60, Subpart Da); Docket ID Number OECA-2005-0064; EPA ICR Number 1053.08; OMB Control Number 2060-0023; expiration date July 31, 2006.

(13) NESHAP for Hydrochloric Acid Production (40 CFR Part 63, Subpart NNNNN); Docket ID Number OECA-2005-0070; EPA ICR Number 2032.04; OMB Control Number 2060-0529; expiration date July 31, 2006.

(14) NESHAP for Mercury (40 CFR Part 61, Subpart E); Docket ID Number OECA-2005-0071; EPA ICR Number 0113.09; OMB Control Number 2060-0097; expiration date August 31, 2006.

(15) NESHAP for Secondary Aluminum Production (40 CFR Part 63, Subpart RRR); Docket ID Number OECA-2005-0072; EPA ICR Number 1894.05; OMB Control Number 2060-0433; expiration date September 30, 2006.

(16) NESHAP for Shipbuilding and Ship Repair Facilities—Surface Coating (40 CFR Part 63, Subpart II); Docket ID Number OECA-2005-0076; EPA ICR Number 1712.05; OMB Control Number 2060-0030; expiration date September 30, 2006.

C. Contact Individuals for ICRs

(1) NSPS for Petroleum Dry Cleaners (40 CFR Part 60, Subpart JJJ); Learia Williams of the Office of Compliance at (202) 564-4113, fax number: (202) 564-4113 or via e-mail: williams.learia@epa.gov; EPA ICR Number 0997.08; OMB Control Number 2060-0108; expiration date June 30, 2006.

(2) NSPS for Large Appliance Surface Coating (40 CFR Part 60, Subpart SS); Leonard Lazarus of the Office of Compliance at (202) 564-6369 or via e-mail to: lazarus.leonard@epa.gov; EPA ICR Number 0659.10; OMB Control Number 2060-0108; expiration date June 30, 2006.

(3) NSPS for Coal Preparation Plants (40 CFR Part 60, Subpart Y); Dan Chadwick of the Office of Compliance at phone number (202) 564-7054, fax number (202) 564-0050, or via e-mail to chadwick.dan@epa.gov; EPA ICR Number 1062.09; OMB Control Number 2060-0122; expiration date July 31, 2006.

(4) NESHAP for Clay Ceramics Manufacturing (40 CFR Part 63, Subpart KKKKK); Learia Williams of the Office of Compliance at (202) 564-4113, fax number: (202) 564-4113 or via e-mail: williams.learia@epa.gov; EPA ICR Number 2023.03; OMB Control Number 2060-0513; expiration date June 30, 2006.

(5) NSPS for Emission Guidelines and Compliance Times for Small Municipal Waste Combustion Units Constructed on or Before August 30, 1999 (40 CFR Part 60, Subpart BBBB); Gregory Fried of the Office of Compliance at (202) 564-7016 or via e-mail to: fried.gregory@epa.gov; EPA ICR Number 1901.03; OMB Control Number 2060-0424; expiration date June 30, 2006.

(6) NSPS for Metal Furniture Coating (40 CFR Part 60, Subpart EE); Leonard Lazarus of the Office of Compliance at (202) 564-6369 or via e-mail to: lazarus.leonard@epa.gov; EPA ICR Number 0649.09; OMB Control Number 2060-0106; expiration date June 30, 2006.

(7) NSPS for Small Municipal Waste Combustors (40 CFR Part 60, Subpart AAAA); Gregory Fried of the Office of Compliance at (202) 564-7016 or via e-mail to: fried.gregory@epa.gov; EPA ICR Number 1900.03; OMB Control Number 2060-0423; expiration date June 30, 2006.

(8) NESHAP for Integrated Iron and Steel Manufacturing (40 CFR Part 63, Subpart FFFFF); contact María Malavé in the Office of Compliance at (202) 564-7027 or via e-mail to: malave.maria@epa.gov; EPA ICR Number 2003.03; OMB Control Number 2060-0517; expiration date June 30, 2006.

(9) Federal Emission Guidelines for Large Municipal Waste Combustors Constructed on or Before September 20, 1994 (40 CFR 62, Subpart FFF); Gregory Fried of the Office of Compliance at (202) 564-7016 or via e-mail to: fried.gregory@epa.gov; EPA ICR Number 1847.04; OMB Control Number 2060-0181; expiration date June 30, 2006.

(10) NSPS for Synthetic Fiber Production Facilities (40 CFR Part 60, Subpart HHH); Learia Williams of the Office of Compliance at (202) 564-4113, fax number: (202) 564-4113 or via e-mail: williams.learia@epa.gov; EPA ICR Number 1156.10; OMB Control Number 2060-0059; expiration date June 30, 2006.

(11) NESHAP for Semiconductor Manufacturing (40 CFR Part 63, Subpart BBBBB); Learia Williams of the Office of Compliance at (202) 564-4113, fax number: (202) 564-4113 or via e-mail: williams.learia@epa.gov; EPA ICR Number 2042.03; OMB Control Number 2060-0519; expiration date June 30, 2006.

(12) NSPS for Electric Utility Steam Generating Units for Which Construction is Commenced After September 18, 1978 (40 CFR Part 60, Subpart Da); Dan Chadwick of the Office of Compliance at phone number (202) 564-7054, fax number (202) 564-0050, or via e-mail to chadwick.dan@epa.gov; EPA ICR Number 1053.08; OMB Control Number 2060-0023; expiration date July 31, 2006.

(13) NESHAP for Hydrochloric Acid Production (40 CFR Part 63, Subpart NNNNN); Learia Williams of the Office of Compliance at (202) 564-4113, fax number: (202) 564-4113 or via e-mail: williams.learia@epa.gov; EPA ICR Number 2032.04; OMB Control Number 2060-0529; expiration date July 31, 2006.

(14) NESHAP for Mercury (40 CFR Part 61, Subpart E); Learia Williams of the Office of Compliance at (202) 564-4113, fax number: (202) 564-4113 or via e-mail: williams.learia@epa.gov; EPA ICR Number 0113.09; OMB Control Number 2060-0097; expiration date August 31, 2006.

(15) NESHAP for Secondary Aluminum Production (40 CFR Part 63, Subpart RRR); Learia Williams of the Office of Compliance at (202) 564-4113, fax number: (202) 564-4113 or via e-mail: williams.learia@epa.gov; EPA ICR Number 1894.05; OMB Control Number 2060-0433; expiration date September 30, 2006.

(16) NESHAP for Shipbuilding and Ship Repair Facilities—Surface Coating (40 CFR Part 63, Subpart II); Leonard Lazarus of the Office of Compliance at (202) 564-6369 or via e-mail to: lazarus.leonard@epa.gov; EPA ICR Number 1712.05; OMB Control Number 2060-0030; expiration date September 30, 2006.

D. Information for Individual ICRs

(1) NSPS for Petroleum Dry Cleaners (40 CFR Part 60, Subpart JJJ); EPA ICR Number 0997.08; OMB Control Number 2060-0108; expiration date June 30, 2006.

Affected Entities: Petroleum dry cleaning facilities.

Abstract: The New Source Performance Standards (NSPS) for the Petroleum Dry Cleaning Industry (40 CFR Part 60, Subpart JJJ) were proposed on December 14, 1982, and promulgated on September 21, 1984. These standards apply to the owners or operators of petroleum dry cleaning facilities constructed, reconstructed, or modified after December 14, 1982, whose total manufacturer's rated dryer capacity is equal to or greater than 38 kilograms (84 pounds).

The affected entities are subject to the General Provisions of the NSPS at 40 CFR part 60, subpart A and any changes, or additions to the General Provisions specified at 40 CFR part 60, subpart JJJ. In general, all NSPS standards require initial notifications, performance tests, and periodic reports. Owners or operators are also required to maintain records of the occurrence and duration of any startup, shutdown, or malfunction in the operation of an affected facility, or any period during which the monitoring system is inoperative. These notifications, reports, and records are essential in determining compliance, and are required of all sources subject to NSPS.

Burden Statement: In the previously approved ICR, the estimated number of respondents for this information collection was 18 with 93 responses per year. The annual industry reporting and recordkeeping burden for this collection of information was 1,483 hours. On average, each respondent reported once per year and 16 hours were spent preparing each response. There were no capital/startup costs or operation and maintenance costs associated with continuous emission monitoring in the previous ICR.

(2) NSPS for Large Appliance Surface Coating (40 CFR Part 60, Subpart SS); EPA ICR Number 0659.10; OMB Control Number 2060-0108; expiration date June 30, 2006.

Affected Entities: Large appliance surface coating facilities.

Abstract: The New Source Performance Standards (NSPS) for Large Appliance Surface Coating were promulgated on October 27, 1982. Respondents are the owners or operators of large appliance surface coating facilities. The standards apply to each large appliance surface coating operation in which organic coatings are applied that commenced construction, modification or reconstruction after December 24, 1980.

The affected entities are subject to the General Provisions of NSPS at 40 CFR part 60, subpart A which apply to all NSPS sources. Owners or operators of the affected facilities described must make initial reports when a source becomes subject; conduct and report on performance tests; demonstrate and report on continuous monitor performance; and maintain records of the occurrence and duration of any startup, shutdown, or malfunction in the operation of an affected facility. Semiannual reports of excess emissions are also required. These notifications, reports, and records are essential in determining compliance, and are required, in general, of all sources subject to NSPS.

Burden Statement: In the previously approved ICR, the estimated number of respondents for this information collection was 72 with 1,044 responses per year. The annual industry reporting and recordkeeping burden for this collection of information was 29,564 hours. On average, each respondent reported 15 times per year and 28 hours were spent preparing each response. The total annualized cost was $5,000, which was comprised of maintenance costs of $5,000. There were no capital/startup costs in the previous ICR.

(3) NSPS for Coal Preparation Plants (40 CFR Part 60, Subpart Y); EPA ICR Number 1062.07; OMB Control Number 2060-0122; June 30, 2006.

Affected Entities: Coal Preparation Plants not including underground mining operations.

Abstract: The New Source Performance Standards (NSPS) for 40 CFR part 60, subpart Y was proposed on October 24, 1974 and promulgated on January 15, 1976.

The affected entities are subject to the General Provisions of the NSPS at 40 CFR part 60, subpart A and any changes to the General Provisions specified at 40 CFR part 60, subpart Y. In general, all New Source Performance Standards (NSPS) require initial notifications, performance tests, and periodic reports. Owners or operators are also required to maintain records of the occurrence and duration of any start-up, shutdown, or malfunction in the operation of an affected facility, or any period during which the monitoring system is inoperative.

Burden Statement: The estimated number of respondents for this information collect was 616 with 1,232 responses. The annual industry recordkeeping and reporting burden for this collection of information was 17,162 hours. Each respondent provided two responses per year and an average 14 hours were spent preparing each response. The total annual cost for this ICR was $22,000 which was comprised entirely of operation and maintenance costs (no capital/startup costs).

(4) NESHAP for Clay Ceramics Manufacturing (40 CFR Part 63, Subpart KKKKK); EPA ICR Number 2023.03; OMB Control Number 2060-0513; expiration date June 30, 2006.

Affected Entities: Clay ceramics manufacturing facilities.

Abstract: The National Emission Standards for Hazardous Air Pollutants (NESHAP) for Clay Ceramics Manufacturing (40 CFR Part 63, Subpart KKKKK) were proposed on July 22, 2002, and promulgated on May 16, 2003. These standards apply to the owners or operators of any new and existing clay ceramic manufacturing facilities. Clay ceramic facilities manufacture pressed floor tile, pressed wall tile, other pressed tile, or sanitary ware (e.g., sinks and toilets).

The affected entities are subject to the General Provisions of the NESHAP at 40 CFR part 63, subpart A and any changes, or additions to the General Provisions specified at 40 CFR part 63, subpart KKKKK. Respondents must submit one-time notification of applicability and reports on initial performance test results, implement a startup, shutdown, and malfunction plan (SSMP), semiannual reports of any event where the plan was not followed, semiannual reports for periods of emission limitation deviations, also develop and implement an operation, maintenance, and monitoring plan covering each affected source and emission control device.

Burden Statement: In the previously approved ICR, the estimated number of respondents for this information collection was three with 16 responses per year. The annual industry reporting and recordkeeping burden for this collection of information was 185 hours. On average, each respondent reported five times per year and 12 hours were spent preparing each response. The total annualized cost was $2,000, which was comprised of no capital/startup costs, and operation and maintenance costs of $2,000.

(5) NSPS for Emission Guidelines and Compliance Times for Small Municipal Waste Combustion Units Constructed on or Before August 30, 1999 (40 CFR Part 60, Subpart BBBB), EPA ICR Number 1901.03, OMB Control Number 2060-0424, expiration date June 30, 2006.

Affected Entities: Small municipal waste combustion units.

Abstract: The New Source Performance Standard (NSPS) for Emission Guidelines and Compliance Times for Small Municipal Waste Combustion Units Constructed on or Before August 30, 1999 were promulgated on December 6, 2000 (65 FR 76378).

The affected entities are subject to the General Provisions of the NSPS at 40 CFR part 60, subpart A and any changes, or additions to the General Provisions specified at 40 CFR part 60, subpart BBBB. Owners or operators are required to conduct initial compliance testing and continuous monitoring or annual retesting. Owners or operators of small municipal waste combustors (MWCs) are required to submit an initial compliance report for all regulated pollutants and parameters. Owners or operators of small MWC units are also required to submit an annual report for all regulated pollutants and parameters that summarizes data collected for all pollutants and operating parameters regulated under the standard. The annual report includes the highest emission level experienced during the annual test or recorded using a continuous emission monitoring system, the load level, control device inlet temperature, and opacity measurements. If the emission level recorded for any of these pollutants shows emissions above the emission limit for the pollutant, or a calculated carbon injection rate below the carbon injection rate established during the mercury or dioxin/furan annual retest, then the owner or operator is required to submit a semiannual report for the calendar half during which the test was conducted or data were collected. The report must include supporting data and an explanation for the exceedance(s).

Owners or operators are also required to keep records of the following information: (1) Employees names and dates of their initial and annual review of the site-specific operating manual; (2) emission rates and CEMS parameters for nitrogen oxides, sulfur dioxides, carbon monoxide, oxygen, carbon dioxide, and opacity; (3) continuous measurements of small MWC unit load and PM control device temperature, and computation of average emissions and operating parameters; (4) the date and operating parameters of any opacity level exceedances, with reasons and a description of corrective action; (5) results of daily sulfur dioxide, nitrogen oxide, and carbon monoxide CEMS drift tests and quarterly accuracy assessments; (6) records of initial performance tests and all annual performance retests for compliance with particulate matter, dioxin/furan, hydrochloric acid, cadmium, lead, and mercury limits; and (7) records of periodic testing for fugitive ash emissions.

Burden Statement: In the previously approved ICR, the estimated number of respondents for this information collection was 39 with 416 responses per year. The annual industry reporting and recordkeeping burden for this collection of information was 186,374 hours. On average, each respondent reported 11 times per year and 4,779 hours were spent preparing each response. The total annualized cost was $3,338,000, which was comprised of capital/startup costs of $2,800,000 and operation and maintenance costs of $538,000.

(6) NSPS for Metal Furniture Coating (40 CFR Part 60, Subpart EE); EPA ICR Number 0649.09; OMB Control Number 2060-0106; expiration date June 30, 2006.

Affected Entities: Metal furniture coating facilities.

Abstract: The New Source Performance Standards for Metal Furniture Coating were promulgated on October 29, 1982. The standards apply to each metal furniture coating operation in which organic coatings are applied (greater than 3,842 liters of coating per year), commencing construction, modification or reconstruction after November 28, 1980.

The affected entities are subject to the General Provisions of the New Source Performance Standards (NSPS) at 40 CFR part 60, subpart A that apply to all NSPS sources. These requirements include recordkeeping and reporting for startup, shutdown, malfunctions, and semiannual reporting. Exceptions to the General Provisions for this source category are delineated in the standard and include initial notifications to the Agency for new, reconstructed and existing affected entities. Owners or operators of the affected facilities described must make initial reports when a source becomes subject, conduct and report on a performance test, demonstrate and report on continuous monitor performance, and maintain records of the occurrence and duration of any startup, shutdown, or malfunction in the operation of an affected facility. Semiannual reports of excess emissions are required.

Burden Statement: In the previously approved ICR, the estimated number of respondents for this information collection was 397 with 1,110 responses per year. The annual industry reporting and recordkeeping burden for this collection of information was 73,181 hours. On average, each respondent reported approximately 2.8 times per year and 66 hours were spent preparing each response. The total annualized cost was $837,000, which was comprised of capital/startup costs of $114,000 and operation and maintenance costs of $723,000.

(7) NSPS for Small Municipal Waste Combustors (40 CFR Part 60, Subpart AAAA), EPA ICR Number 1900.03, OMB Control Number 2060-0423, expiration date June 30, 2006.

Affected Entities: Small municipal waste combustors (MWC).

Abstract: The New Source Performance Standards (NSPS) for Small Municipal Waste Combustors (40 CFR Part 60, Subpart AAAA) were promulgated on December 6, 2000. The standards apply to MWC units with capacities greater than 35 tons per day, but less than 250 tons per day for which commenced construction after August 30, 1999, or commenced modification, or reconstruction after June 6, 2001.

The affected entities are subject to the General Provisions of the NSPS at 40 CFR part 60, subpart A and any changes, or additions to the General Provisions specified at 40 CFR part 60, subpart AAAA. Owners or operators must conduct initial compliance tests for all pollutants, operating parameters, and continuous monitoring systems. Annual performance tests and continuous monitoring systems (CEMS) for certain pollutants and operating parameters is also required. Owners or operators of small MWC units must submit an initial compliance report for all regulated pollutants and parameters. Once a year, owners or operators must submit a report that indicates the highest emission level determined during the annual test or recorded using the CEMS for all regulated pollutants. The report must also include the lowest calculated hourly carbon feed rate.

If the emission level recorded for any of these pollutants is above the emission limit for the pollutant, or if any operating parameter is outside a specified range, then the owner or operator is required to submit a semiannual report for the calendar half during which the test was conducted or data was collected. The standards include provisions that would allow less frequent reporting if certain criteria are met.

Owners or operators of small MWC units are required to keep records of certain parameters, and maintain records of employee names and dates of their initial and annual review of the site-specific operating manual parameters. Records of continuous measurements of MWC unit load, the particulate matter control device temperature, and computation of average emissions and operating parameters, as well as opacity measurements are required. Owners or operators are also required to maintain records that identify the date, operating parameters, and opacity level exceedances, with reasons and a description of corrective action. Owners or operators are also required to keep records of daily sulfur dioxide, nitrogen oxides, and carbon monoxide, CEMS drift tests, and quarterly accuracy assessments. Owners or operators are required to maintain records of initial performance tests and all annual performance retests for compliance with particulate matter, dioxins/furans, hydrochloric acid, cadmium, lead, and mercury limits. Owners or operators also maintain records of periodic testing for fugitive ash emissions.

Burden Statement: In the previously approved ICR, the estimated number of respondents for this information collection was six with 10 responses per year. The annual industry reporting and recordkeeping burden for this collection of information was 25,201 hours. On average, each respondent reported 1.7 times per year and 2,520 hours were spent preparing each response. The total annualized cost was $277,000, which was comprised of capital/startup costs of $200,000 and operation and maintenance costs of $77,000.

(8) NESHAP for Integrated Iron and Steel Manufacturing (40 CFR Part 63, Subpart FFFFF); EPA ICR Number 2003.03; OMB Control Number 2060-0517; expiration date June 30, 2006.

Affected Entities: Integrated iron and steel manufacturing facilities.

Abstract: The National Emission Standards for Hazardous Air Pollutants (NESHAP) for Integrated Iron and Steel Manufacturing Steel Pickling, 40 CFR Part 63, Subpart FFFFF, were proposed on July 13, 2001 (66 FR 36835), and promulgated on May 20, 2003 (68 FR 27645). This rulemaking establishes emission limits for particulate matter and/or opacity limits, which act as surrogates for individual metallic hazardous air pollutants (HAPs) limitations for six discharge points. Operating limits are also required for certain capture systems and control devices. The rule also includes an operating limit for the oil content of the sinter plant feedstock to reduce organic HAP. As an alternative, a facility may choose to monitor emissions of volatile organic compounds instead of oil content.

The monitoring, recordkeeping, and reporting requirements outlined in the rule are similar to those required for other NESHAP regulations. Plants are required to conduct a performance test to demonstrate initial compliance with each emission and opacity limit and establish operating limits for capture systems and control devices. A performance test is also required to demonstrate compliance with the operating limit on the oil content of sinter plant feedstock or for volatile organic compounds.

Consistent with the NESHAP General Provisions (40 CFR Part 63, Subpart A), respondents submit one-time notifications of applicability, a performance test result for the primary emission control device, and semiannual reports including periods of monitoring exceedances. Plants also must develop and implement a Startup, Shutdown, and Malfunction Plan (SSMP). An immediate report is required if actions taken in response to the SSMP were not consistent with the written SSMP. These notifications, reports, and records are essential in determining compliance, and are required of all sources subject to NESHAP.

Burden Statement: In the active approved ICR, the estimated number of respondents for this information collection 6 with 24 responses per year. The annual industry reporting and recordkeeping burden for this collection of information was 199 hours. The average annual respondent reports four times per year and spends 8 hours preparing each response.

The total annualized cost for continuous emissions monitoring was $64,300, which was comprised of capital/startup costs of $42,000 and operation and maintenance (O&M) costs of $22,300 per year.

(9) Federal Emission Guidelines for Large Municipal Waste Combustors Constructed on or Before September 20, 1994 (40 CFR 62, Subpart FFF), EPA ICR Number 1847.04, OMB Control Number 2060-0181, expiration date June 30, 2006.

Affected Entities: Municipal waste combustion (MWC) units.

Abstract: Federal Emission Guidelines for Large Municipal Waste Combustors Constructed on or Before September 20, 1994 (40 CFR 62, Subpart FFF) were promulgated on November 12, 1998. The guidelines apply to MWC units with a combustion capacity greater than 250 tons per day of municipal solid waste (large MWC units) if construction of the unit commenced on or before September 20, 1994, and the unit is not covered by an Agency approved State or Tribal Plan.

The affected entities are subject to the General Provisions of the New Source Performance Standards (NSPS) at 40 CFR part 60, subpart A and any changes, or additions to the General Provisions specified at 40 CFR part 62, subpart FFF. Subpart FFF implements and enforces the emission guidelines (40 CFR part 60, subpart Cb) for large MWCs that were promulgated under the authority of Clean Air Act Sections 111 and 129. Under CAA Section 129(b)(2), States were required to submit plans to the Administrator for approval by December 19, 1996, that implement and enforce the 40 CFR part 60, subpart Cb. Section 129(b)(3) requires the Administrator to promulgate a Federal Plan to implement and enforce the guidelines in those States that have not submitted an approvable plan to Administrator by December 19, 1997.

Subpart FFF requires initial notifications, performance tests, and periodic reports. Owners or operators are also required to maintain records of the occurrence and duration of any startup, shutdown, or malfunction in the operation of an affected facility, or any period during which the monitoring system is inoperative. These notifications, reports, and records are essential to determine compliance, and are required of all sources subject to the NSPS. Subpart FFF contains the same testing, monitoring, recordkeeping and reporting requirements as Subpart Eb and subpart Cb. This occurs because Section 60.39b of subpart Cb requires that for a State Plan or Tribal Plan to be approved, it must contain the recordkeeping and reporting requirements of Subpart Eb. Because the Federal Plan is applicable in lieu of State or Tribal Plans for MWCs in areas that do not have approved State or Tribal Plans, the Federal Plan also contains the same recordkeeping and reporting as subparts Eb and Cb.

Burden Statement: In the previously approved ICR, the estimated number of respondents for this information collection was 14 with 98 responses per year. The annual industry reporting and recordkeeping burden for this collection of information was 39,067 hours. On average, each respondent reported 7 times per year and 399 hours were spent preparing each response. There were no capital/startup costs in the previous ICR. Operation and maintenance costs associated with continuous emission monitoring in the previous ICR were estimated to be $402,000.

(10) NSPS for Synthetic Fiber Production Facilities (40 CFR Part 60, Subpart HHH); EPA ICR Number 1156.10; OMB Control Number 2060-0059; expiration date June 30, 2006.

Affected Entities: Synthetic fiber production facilities.

Abstract: The New Source Performance Standards (NSPS) for the Synthetic Fiber Production Facility (CFR Part 60, Subpart HHH) were proposed on November 23, 1982, and promulgated on April 05, 1984. The standards apply to synthetic fiber production facilities that commence construction or reconstruction after November 23, 1982. These standards apply specifically to each solvent-spun synthetic fiber process that produces more than 500 megagrams of fiber per year. The provisions of this subpart do not apply to any facility that uses the reaction spinning process to produce spandex fiber or the viscose process to produce rayon fiber, or to facilities that commence modification but not reconstruction after November 23, 1982.

The affected entities are subject to the General Provisions of the NSPS at 40 CFR part 60, subpart A and any changes, or additions to the General Provisions specified at 40 CFR part 60, subpart HHH. Owners or operators of the affected facilities described must make one-time-only initial notifications and report on the results of the initial performance test. Respondents are also required to maintain records of the occurrence and duration of any startup, shutdown, or malfunction in the operation of an affected facility, or any period during which the monitoring system is inoperative. Monitoring requirements specific to synthetic fiber production facilities provide information on emissions. Owners or operators are required to install, calibrate, maintain, and operate a continuous monitoring system for the measurement of makeup solvent and solvent feed. Also required are semiannual reports, and quarterly reports addressing excess emissions.

Burden Statement: In the previously approved ICR, the estimated number of respondents for this information collection was 25 with 63 responses per year. The annual industry reporting and recordkeeping burden for this collection of information was 1,838 hours. On average, each respondent reported three times per year and 29 hours were spent preparing each response. The total annualized cost was $188,000, which was comprised of no capital/startup and operation and maintenance costs of $188,000.

(11) NESHAP for Semiconductor Manufacturing (40 CFR Part 63, Subpart BBBBB); EPA ICR Number 2042.03; OMB Control Number 2060-0519; expiration date June 30, 2006.

Affected Entities: Semiconductor manufacturing.

Abstract: The National Emission Standards for Hazardous Air Pollutants (NESHAP) for Semiconductor Manufacturing (40 CFR Part 63, Subpart BBBBB) were proposed on May 8, 2002, and promulgated on May 22, 2003. These standards apply to the owners or operators of any new, reconstructed and existing semiconductor manufacturing facilities. Affected facilities are the manufacturing process units used to manufacture p-type and n-type semiconductors and active solid-state devices from a wafer substrate, including associated research and development activities.

The affected entities are subject to the General Provision of the NESHAP at 40 CFR part 63, subpart A and any changes, or additions to the General Provisions specified at 40 CFR part 63, subpart BBBBB. Respondents must submit one-time initial notifications, notification of compliance status, notification of performance evaluation; one-time report of performance evaluation, implement a startup, shutdown, and malfunction plan (SSMP) and semiannual reports of any event where the plan was not followed.

Burden Statement: In the previously approved ICR, the estimated number of respondents for this information collection was one with two responses per year. The annual industry reporting and recordkeeping burden for this collection of information was 234 hours. On average, each respondent reported two times per year and 117 hours were spent preparing each response. There were no capital/startup costs or operation and maintenance costs associated with continuous emission monitoring in the previous ICR.

(12) NSPS for Electric Utility Steam Generating Units for Which Construction is Commenced After September 18, 1978 (40 CFR Part 60, Subpart Da); EPA ICR Number 1053.08; OMB Control Number 2060-0023; expiration date July 31, 2006.

Affected Entities: Electric utility steam generating units.

Abstract: The New Source Performance Standards (NSPS) for electric steam generating units (40 CFR 60, Subpart Da) were proposed on September 18, 1978 and promulgated on June 11, 1979 (44 FR 33613). These standards apply to each electric utility steam generating unit which is capable of combusting more than 73 megawatts heat input of fossil fuel, for which, construction, modification, or reconstruction commenced after the date of proposal.

The affected entities are subject to the General Provisions of the NSPS at 40 CFR part 60, subpart A and any changes to the General Provisions specified at 40 CFR part 60, subpart Da. In general, owners or operators of the affected facilities described must make one-time-only notifications. Owners or operators are also required to maintain records of the occurrence and duration of any startup, shutdown, or malfunction in the operation of an affected facility, or any period during which the monitoring system is inoperative. Quarterly reports of excess emissions, and/or semiannual reports are required.

Burden Statement: In the previously approved ICR the estimated number of respondents was 655 with 1,572 responses. The annual industry recordkeeping and reporting burden for this industry was 133,553 hours. On average each respondent reported 2.4 times per year and 85 hours were spent preparing each response. The annual capital/startup costs were $2,200,000 and, operation and maintenance costs were $9,660,000 resulting in a total annualized cost of $11,860,000.

(13) NESHAP for Hydrochloric Acid Production (40 CFR Part 63, Subpart NNNNN); EPA ICR Number 2032.04; OMB Control Number 2060-0529; expiration date July 31, 2006.

Affected Entities: Hydrochloric acid (HCl) production facilities.

Abstract: The National Emission Standards for Hazardous Air Pollutants (NESHAP) for Hydrochloric Acid Production (CFR Part 63, Subpart NNNNN) were proposed on September 18, 2001, and promulgated on April 17, 2003. This subpart applies to owners and operators of an HCl production facility that produces a liquid HCl product at a concentration of 30 percent by weight, or greater during its normal operations and is located at, or is part of, a major source of hazardous air pollutants. A HCl production facility is the collection of unit operations and equipment associated with the production of liquid HCl product.

The affected entities are subject to the General Provisions of the NESHAP at 40 CFR part 63, subpart A and any changes, or additions to the General Provisions specified at 40 CFR part 63, subpart NNNNN. Respondents must submit one-time initial notifications, notification of intent to conduct a performance test, notification of compliance status, and startup, shutdown, and malfunction reports.

Burden Statement: In the previously approved ICR, the estimated number of respondents for this information collection was 71 with 117 responses per year. The annual industry reporting and recordkeeping burden for this collection of information was 50,052 hours. On average, each respondent reported 1.6 times per year and 428 hours were spent preparing each response. The responses were prepared semiannually and annually. The total annualized cost was $247,410, which was comprised of capital/startup costs of $25,869 and operation and maintenance costs of $221,541.

(14) NESHAP for Mercury (40 CFR Part 61, Subpart E); EPA ICR Number 0113.09; OMB Control Number 2060-0097; expiration date August 31, 2006.

Affected Entities: Mercury chlor-alkali cells that produce chlorine gas and alkali metal hydroxide.

Abstract: The National Emission Standards for Hazardous Air Pollutants (NESHAP) for Mercury (CFR Part 61, Subpart E) were proposed on December 7, 1971, and promulgated on April 6, 1973, and amended on October 14, 1975, and March 19, 1987. The affected entities are subject to the General Provisions of the National Emission Standards for Hazardous Air Pollutants (NESHAP) at 40 CFR part 61, subpart A and any changes, or additions to the General Provisions specified at 40 CFR part 61, subpart E. Owners or operators of affected facilities described must make the following one-time-only reports: Notification of the date of construction or reconstruction; notification of the anticipated and actual dates of startup; notification of any physical or operational change to an existing facility which may increase the regulated pollutant emission rate; notification of the date of the initial performance test; and the results of the initial performance test. These facilities must also maintain records of performance test results, startups, shutdowns, and malfunctions. In order to ensure compliance with the standards, adequate recordkeeping and reporting is necessary. A written report of each period for which hourly monitored parameters fall outside their established limits is required semiannually for mercury-cell chlor-alkali facilities.

Burden Statement: In the previously approved ICR, the estimated number of respondents for this information collection was 107 with 114 responses per year. The annual industry reporting and recordkeeping burden for this collection of information was 17,818 hours. On average, each respondent reported once per year and 156 hours were spent preparing each response. There were no capital/startup costs or operation and maintenance costs associated with continuous emission monitoring in the previous ICR.

(15) NESHAP for Secondary Aluminum Production (40 CFR Part 63, Subpart RRR); EPA ICR Number 1894.05; OMB Control Number 2060-0433; expiration date September 30, 2006.

Affected Entities: Secondary aluminum production plants.

Abstract: The National Emission Standards for Hazardous Air Pollutants (NESHAP) for Secondary Aluminum Production (CFR Part 63, Subpart RRR) were proposed on February 11, 1999, and promulgated on March 23, 2002, and amended on December 30, 2002. These regulations apply to component processes at secondary aluminum production plants that are major sources and area sources including aluminum scrap shredders, thermal chip dryers, scrap dryers/delacquering kilns/decoating kilns, secondary aluminum processing units composed of in-line fluxers and process furnaces, sweat furnaces, dross-only furnaces, and rotary dross coolers, commencing construction, or reconstruction after the date of proposal. As a result of a rule amendment, owners and operators of certain aluminum die casting facilities, aluminum foundries, and aluminum extrusion facilities were excluded from the rule coverage. Respondents do not include the owner or operator of any facility that is not a major source of hazardous air pollutants emissions except for those that are area sources of dioxin/furan emissions.

The affected entities are subject to the General Provisions of the NESHAP at 40 CFR part 63, subpart A and any changes, or additions to the General Provisions specified at 40 CFR part 61, subpart RRR. The standards require initial notifications, performance tests, and periodic reports. Owners or operators are also required to maintain records of the occurrence and duration of any startup, shutdown, or malfunction in the operation of an affected facility, or any period during which the monitoring system is inoperative. These notifications, reports, and records are essential in determining compliance, and are required of all sources subject to NESHAP.

Burden Statement: In the previously approved ICR, the estimated number of respondents for this information collection was 1,640 with 3,430 responses per year. The annual industry reporting and recordkeeping burden for this collection of information was 94,998 hours. On average, each respondent reported two times per year and 28 hours were spent preparing each response. The total annualized cost was $231,000 which was comprised of capital/startup costs of $89,000 and operation and maintenance costs of $142,000.

(16) NESHAP for Shipbuilding and Ship Repair Facilities—Surface Coating (40 CFR Part 63, Subpart II); EPA ICR Number 1712.05; OMB Control Number 2060-0030; expiration date September 30, 2006.

Affected Entities: Shipbuilding and repair facilities.

Abstract: The National Emission Standards for Hazardous Air Pollutants (NESHAP) for Shipbuilding and Ship Repair Facilities—Surface Coating (40 CFR Part 63, Subpart II) were promulgated on December 15, 1995. The affected entities are subject to the General Provisions of the National Emission Standards for Hazardous Air Pollutants (NESHAP) at 40 CFR part 63, subpart A that apply to all NESHAP sources. These requirements include recordkeeping and reporting for startup, shutdown, malfunctions, and semiannual reporting. Additions to the General Provisions for this source category are delineated in the standard and include initial notifications to the Agency for new, reconstructed and existing affected entities, and notifications of compliance status. Also, respondents are required to submit with the initial notification an implementation plan that describes the coating compliance procedures; recordkeeping procedures; and transfer, handling, and storage procedures that the source intends to use.

Burden Statement: In the previously approved ICR, the estimated number of respondents for this information collection was 56 with 112 responses per year. The annual industry reporting and recordkeeping burden for this collection of information was 28,594 hours. On average, each respondent reported twice per year and 255 hours were spent preparing each response. The total annualized cost was zero which was comprised of no capital/startup costs and no operation and maintenance costs.

Dated: September 7, 2005.
Michael M. Stahl,
Director, Office of Compliance.

[FR Doc. 05-18827 Filed 9-20-05; 8:45 am]

BILLING CODE 6560-50-P